DEPARTMENT OF TRANSPORTATION

Federal Aviation Administration

14 CFR Part 91

[Docket No. FAA-2006-25250; Amdt. No. 91-303]

RIN 2120-AI63

Special Awareness Training for the Washington, DC Metropolitan Area; OMB Approval of Information Collection

AGENCY: Federal Aviation Administration, DOT.

ACTION: Final rule; Notice of Office of Management and Budget approval for information collection.

SUMMARY: This notice announces the Office of Management and Budget's (OMB's) approval of the information collection requirement contained in the FAA's final rule, “Special Awareness Training for the Washington, DC Metropolitan Area,” which was published on August 12, 2008.

DATES: The FAA received OMB approval for the information collection requirements in § 91.161 on October 2, 2008. The rule will become effective on February 9, 2009.

FOR FURTHER INFORMATION CONTACT: John D. Lynch, Certification and General Aviation Operations Branch, AFS-810, General Aviation and Commercial Division, Federal Aviation Administration, 800 Independence Avenue, SW., Washington, DC 20591; telephone (202) 267-3844.

SUPPLEMENTARY INFORMATION: On August 12, 2008, the FAA published the final rule, “Special Awareness Training for the Washington, DC Metropolitan Area” (73 FR 46797). The rule requires “special awareness” training for any pilot who flies under visual flight rules (VFR) within a 60-nautical-mile (NM) radius of the Washington, DC VHF omni-directional range/distance measuring equipment (DCA VOR/DME). The rule contains information collection requirements that had not yet been approved by the Office of Management and Budget at the time of publication. In the DATES section of the rule, the FAA noted that affected parties did not need to comply with the information collection requirements until OMB approved the FAA's request to collect the information.

In accordance with the Paperwork Reduction Act, OMB approved that request on October 2, 2008, and assigned the information collection OMB Control Number 2120-0734. The FAA request was approved by OMB without change and expires on October 31, 2011. This notice is being published to inform affected parties of the approval and to announce that the information collection requirements of § 91.161 will become effective when the final rule becomes effective on February 9, 2009.

Issued in Washington, DC, on October 22, 2008.
Pamela Hamilton-Powell,
Director, Office of Rulemaking.

[FR Doc. E8-25608 Filed 10-27-08; 8:45 am]

BILLING CODE 4910-13-P